INTERNATIONAL TRADE COMMISSION

[Investigation No. 337-TA-1154]

Certain Child Carriers and Components Thereof; Institution of Investigation

AGENCY: U.S. International Trade Commission

ACTION: Notice.

SUMMARY: Notice is hereby given that a complaint was filed with the U.S. International Trade Commission on March 6, 2019, under section 337 of the Tariff Act of 1930, as amended, on behalf of LILLEbaby LLC of Golden, Colorado. LILLEbaby filed supplements to the complaint on March 25 and April 2, 2019. The complaint alleges violations of section 337 based upon the importation into the United States, the sale for importation, and the sale within the United States after importation of certain child carriers and components thereof by reason of infringement of certain claims of U.S. Patent No. 8,172,116 (“the '116 patent”) and U.S. Patent No. 8,424,732 (“the '732 patent”). The complaint further alleges that an industry in the United States exists as required by the applicable Federal Statute.

The complainant requests that the Commission institute an investigation and, after the investigation, issue a general exclusion order or, in the alternative, limited exclusion orders. The complainant also requests that the Commission issue cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2018).

Scope of Investigation: Having considered the complaint, the U.S. International Trade Commission, on April 4, 2019, Ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 2, 5-7, 9, 11, 14-16, 18-20, and 23-25 of the '116 patent and claims 1-14 of the '732 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “child carriers wearable on the transporting individual”;

(3) For the purpose of the investigation so instituted, the following are hereby named as parties upon which this notice of investigation shall be served:

(a) The complainant are:

LILLEbaby LLC, 700 12th Street, Golden, Colorado 80401.

(b) The respondents are the following entities alleged to be in violation of section 337, and are the parties upon which the complaint is to be served:

BabyBjorn AB, Kulltorpsvägen 49, Lanna SE-333 74 Bredaryd, Sweden.

BabyBjorn Inc., 1270 Broadway, Room 508, New York, New York 10001.

BabySwede LLC, 1157 Rockside Road, Cleveland, Ohio 44134.

Baby Tula LLC a/k/a New Baby Tula LLC, 2640 Financial Ct., San Diego, California 92117.

Boba Inc. d/b/a Beco Baby Carrier, 2033 11th Street, # 1, Boulder, Colorado 80302.

ByKay BV, Kruisbergsewwg 44a, Wijchen, Gelderland, 6601 DD, The Netherlands.

Artsana USA, Inc. f/k/a Chicco USA Inc., 1826 William Penn Way, Lancaster, Pennsylvania 17601.

Cybex GmbH, Riedingerstr 18, Bayreuth 95448, Germany.

Columbus Trading Partners USA, Inc., 560 Harrison Avenue, Boston, Massachusetts 02118.

The Ergo Baby Carrier Inc., 617 W. 7th Street, Suite 1000, Los Angeles, California 90017.

Blue Box OpCo LLC d/b/a Infantino, 10025 Mesa Rim Road, San Diego, California 92121.

Isara, Deneris Trade SRL, Str. Tautului Nr 21g Apt. 1, Floresti, Cluj 407280, Romania.

Jonobaby Babytragen, Gutenbergstraße 17, 14467 Potsdam, Germany.

Kokadi GmbH & Co. KG, Domagkstr. 7, 85551 Kirchheim B., Munich, Germany.

Lenny Lamb Sp. z o.o. Sp.K, Domaniewska 37/2.43, 02-672, Warsaw, Poland.

Minimonkey BV, Larikslaan 9, Amsterdam, Noord-Holland, 1087 SC, The Netherlands.

Mountain Buggy USA a/k/a Phil & Teds USA Inc., 221 Jefferson Street, Fort Collins, Colorado 80524.

Soul US Inc., #82/2 New Timberyard Layout, Mysore Road Bangalore, Bangalore KA 560026, India.

Stokke AS, Parkgata 6, Aalesund Møre og Romsda N-6001, Norway.

Stokke LLC, 5 High Ridge Park, Suite 105, Stamford, Connecticut 06905.

Tingtao Sunveno Co., Ltd., No. 11 Huqing Road, Sifang District, Qingdao, Shandong 266044, China.

Wuxi Kangarouse Trading Co. Ltd. Enterprises d/b/a Kangarouse, 8-1321, East Xihu Rd., Wuxi, Jiangsu Province 214000, China.

Jing Jiang Dimarco Packaging & Gifts Co. Ltd., No.21st, Xinyi Road, Chengbei Section, Jingjiang Jiangsu 214500, China.

Jiangsu Matrix Textile Co., Ltd., No.21st, Xinyi Road, Chengbei Section, Jingjiang Jiangsu 214500, China.

Quanzhou Mingrui Bags Co. Ltd., Room 301, No.3 Building, East JinPu Road, Hi-Tech Park JiangNan, FuQiao, Quanzhou Fujian 362000, China.

L'Echarpe Porte Bonheur, Inc. d/b/a Chimparoo, 7-25 Rue de Lauzon, Boucherville, QC J4B 1E7, Canada.

Britax Child Safety, Inc., 4140 Pleasant Road, Fort Mill, South Carolina 29708.

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the Administrative Law Judge and the Commission, without further notice to the respondent, to find the facts to be as alleged in the complaint and this notice and to enter an initial determination and a final determination containing such findings, and may result in the issuance of an exclusion order or a cease and desist order or both directed against the respondent.

By order of the Commission.
Issued: April 5, 2019.
Lisa Barton,
Secretary to the Commission.

[FR Doc. 2019-07103 Filed 4-9-19; 8:45 am]

BILLING CODE 7020-02-P